DEPARTMENT OF COMMERCE

National Oceanic and Atmospheric Administration

Proposed Information Collection; Comment Request; Southeast Region Aquaculture Program

AGENCY: National Marine Fisheries Service (NMFS), National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 2, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Jessica Beck-Stimpert, NMFS Southeast Regional Office, 263 13th Avenue South, St. Petersburg, FL 33701, phone: 727-824-5305, or email: jess.beck@noaa.gov.

SUPPLEMENTARY INFORMATION:

I. Abstract

This request is for an extension and revision of a currently approved information collection under the Office of Management and Budget's (OMB) Control Number 0648-0703, Southeast Region Aquaculture Program. NMFS manages aquaculture operations in Federal waters of the Gulf of Mexico (Gulf) under the Fishery Management Plan for Regulating Offshore Marine Aquaculture in the Gulf of Mexico (Aquaculture FMP). The final rule for the Aquaculture FMP published in the Federal Register on January 13, 2016 (81 FR 1762; RIN 0648-AS65).

This collection of information tracks the administrative functions associated with the aquaculture program (e.g., registration and account setup, landing transactions, and most reporting requirements).

The NMFS Southeast Regional Office also proposes to revise parts of the information collection approved under OMB Control Number 0648-0703 to account for updates to burden time and cost estimates, inclusion of new forms to fulfill rule requirements and administrative updates to online and paper forms. NMFS intends the revisions would make instructions and data collection requirements clearer and easier to understand, resulting in more accurate and efficient information available for use by fishery managers.

II. Method of Collection

Information for the Southeast Region Aquaculture Program is collected online via the aquaculture website (http://sero.nmfs.noaa.gov/sustainable_fisheries/gulf_fisheries/aquaculture/); therefore, a participant must have access to a computer and internet access, and must set up an appropriate online aquaculture account to participate. Assistance with online functions will be available from customer service Monday through Friday between 8 a.m. and 4:30 p.m., eastern time. If some online reporting functions are not available at the time of initial implementation of the aquaculture program, participants may comply by submitting the required information via email to the NMFS Southeast Region using the appropriate forms that are available on the website. Once online functions are available to the public, participants must comply by using the online system unless alternative methods are specified.

Operators of aquaculture facilities would be required to submit all information requirements to NMFS, with the exception of the bill of lading information, which will accompany each shipment of cultured product. Currently, all submissions would be via the online website, unless otherwise noted. Additionally, dealers who purchase aquaculture product from facilities would be required to submit information on those purchases.

III. Data

OMB Control Number: 0648-0703.

Form Number(s): None.

Type of Review: Regular submission (extension and revision of a currently approved information collection).

Affected Public: Business or other for-profit organizations.

Estimated Number of Respondents: 40 (20 operators, 20 dealers).

Estimated Time per Response:

• Federal Permit Application for Offshore Aquaculture in the Gulf of Mexico, 3 hours.

• Notification to Delay Permit Issuance, Annual Report for Gulf Aquaculture Permittees, Certification for Broodstock and Juveniles, Marine Mammal Authorization Form, Notification to Transport Cultured Juveniles to Offshore Systems, 10 minutes.

• Baseline Environmental Survey, 320 hours.

• Request to Harvest Broodstock, Broodstock Post-Harvest Report, Notification Entanglement or Interaction, Notification of Major Escapement Event, Notification of Reportable Pathogen Episode, Harvest and Landing Notification, 30 minutes.

• Bill of Lading, 5 minutes.

• Emergency Disaster Plan, 4 hours.

• Fin Clip Samples, 10 hours.

• Request to Transfer Gulf Aquaculture Permit, 3 hours.

• Assurance bond, Contract with an Aquatic Animal Health Expert, 16 hours.

• Broodstock Marking, Pinger/Location Devise, Marking Restricted Access Zone, Genetic Testing, 8 hours.

• Dealer Permit Application, Dealer Report for Landing and Sale, 30 minutes.

Estimated Total Annual Burden Hours: 2,753.

Estimated Total Annual Cost to Public: $87,660 in recordkeeping or reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 31, 2018.
Sarah Brabson,
NOAA PRA Clearance Officer.

[FR Doc. 2018-16657 Filed 8-2-18; 8:45 am]

BILLING CODE 3510-22-P